DEPARTMENT OF HEALTH AND HUMAN SERVICES

Agency for Toxic Substances and Disease Registry

Statement of Organization, Functions, and Delegations of Authority

Part J (Agency for Toxic Substances and Disease Registry) of the Statement of Organization, Functions, and Delegations of Authority of the Department of Health and Human Services (50 FR 25129-25130, dated June 17, 1985, as amended most recently at 71 FR 44297, dated August 4, 2006) is amended to reflect the reorganization of the Division of Health Assessment and Consultation, Agency for Toxic Substances and Disease Registry.

Section J-B, Organization and Functions, is hereby amended as follows:

Delete in its entirety the functional statements for the Division of Health Assessment and Consultation (JAAC), Office of the Director (JAA), Office of the Administrator (JA), and insert the following:

Division of Health Assessment and Consultation (JAAC). (1) Conducts public health assessments, health consultations, and other related public health activities, to determine the health implications of releases or threatened releases of toxic substances into the environment; in particular, such activities are conducted for Superfund, Resource Conservation and Recovery Act (RCRA), petition requests, and other sites or instances where communities have been or may have been exposed to toxic substances in the environment; (2) conducts and evaluates exposure pathways analyses and other exposure screening analyses to identify impacted communities, to include exposure investigations (biologic sampling, personal monitoring, etc.), exposure-dose reconstruction, and related environmental assessments, as appropriate; (3) identifies appropriate interventions for impacted communities to prevent exposures and/or adverse health effects; (4) issues public health advisories when a release or threatened release of a toxic substances pose an imminent health hazard; (5) plans, prepares, and executes appropriate health communications and health educational strategies/activities/programs for communities affected or potentially affected by toxic substances released into the environment; (6) manages the ATSDR-mandated program for conducting site-specific activities at petitioned sites; (7) manages and implements ATSDR's Site-Specific Cooperative Agreement Program and the ATSDR tribal programs for external partners; (8) coordinates the agency's environmental public health training program; and (9) provides technical support and resources for National public health emergencies and disaster response as appropriate.

Office of the Director (JAAC1). (1) Provides overall leadership in directing, coordinating, evaluating, and managing all programmatic and administrative operations of the Division of Health Assessment and Consultation (DHAC); (2) develops programmatic goals and objectives and provides leadership, policy formation, and guidance in program planning and development; (3) provides program management, administrative, logistical support services for the division; (4) coordinates division activities with other components of ATSDR and other federal, state and local agencies and tribal governments; (5) initiates specific research and medical activities as appropriate to further DHAC's mission and program needs; (6) provides overall leadership and management of DHAC resources for disaster response activities to public health emergencies; and (7) assesses the need and develops training for public health professionals conducting site-specific activities, and coordinates the delivery of these courses for the training of federal staff, tribal members, and state partners.

Health Promotion and Community Involvement Branch (JAACB). (1) Plans, coordinates, implements, and evaluates ATSDR's health promotion and community involvement site-specific programs; (2) communicates the agency's roles, responsibilities, and public health information to public and professional audiences to mitigate health effects from potential and actual exposures to toxic substances; (3) monitors the progress of work plan activities, and reviews and evaluates the accuracy and clarity of community outreach and health education materials; (4) uses best practices and evidence-based approaches from community involvement and public health promotion; (5) develops and delivers environmental public health information for public and professional audiences including translating scientific documents into plain language; (6) advocates for the public health needs of communities affected by environmental hazards; links members of the public in communities affected by hazardous waste with technical and scientific staff and resources, where appropriate; (7) develops, manages, and evaluates the health education and promotion component of ATSDR's state-based cooperative agreement program with external partners to ensure that the technical and administrative requirements of the program are met; (8) provides technical assistance and leadership on community involvement and environmental health promotion to ATSDR and ATSDR partners; (9) advocates for advances in environmental public health promotion to address community concerns and support community needs; and, (10) collaborates with other ATSDR program areas and partners to ensure cultural awareness and respect are observed and practiced in all activities that involve communities, tribes, tribal governments and tribal organizations.

Exposure Investigations and Site Assessment Branch (JAACC). (1) Manages a wide range of public health assessment requests, including private-sector petitions and regional-lead activities, that are assigned based on branch staff expertise; (2) monitors the progress of work plan activities, and reviews and evaluates the scientific accuracy and clarity of public health assessments, health consultations, and related materials; (3) serves as the lead branch for planning, directing, coordinating, evaluating, conducting, and managing DHAC's operations and activities for exposure investigations, exposure-dose reconstruction, and modeling; (4) serves as the lead branch for processing intake of regional requests for DHAC assistance; (5) coordinates within and across branch and divisional units to provide technical expertise for a wide-range of activities that support the division and agency's public health mandates and priorities; (6) issues public health assessments, health consultations, public health advisories, and provides technical assistance; and, (7) develops programmatic goals and objectives, and contributes to policy formation and guidance in program planning and development.

Site and Radiological Assessment Branch (JAACD). (1) Manages a wide range of public health assessment requests, including private-sector petitions and regional-lead activities, that are assigned based on branch staff expertise; (2) monitors the progress of work plan activities, and reviews and evaluates the scientific accuracy and clarity of public health assessments, health consultations, and related materials; (3) serves as the lead branch for planning, directing, coordinating, evaluating, conducting, and managing DHAC's operations and activities at national priorities list sites, federal sites, and RCRA sites; (4) provides radiation physics expertise for all division public health assessment activities, and serves as the division's liaison to radiation disaster response teams; (5) coordinates within and across branch and divisional units to provide technical expertise for a wide-range of activities that support the division and agency's public health mandates and priorities; (6) issues public health assessments, health consultations, public health advisories, and provides technical assistance; and (7) develops programmatic goals and objectives, and contributes to policy formation and guidance in program planning and development.

Cooperative Agreement and Program Evaluation Branch (JAACE). (1) Plans, directs, coordinates, and manages ATSDR's Site-Specific Cooperative Agreement Program; (2) collaborates with other program areas within ATSDR to develop annual plans of work with each of the cooperative agreement partners; (3) monitors the progress of work plan activities and reviews and evaluates the scientific accuracy and clarity of public health assessments, health consultations, and community outreach and health education materials; (4) evaluates the integration of health assessment, health education, health study, and community involvement activities, the performance of cooperative agreement partners, and the public health impact of partner conducted activities; (5) advises cooperative agreement partners on scientific and procedural developments in the area of environmental public health; (6) directs and coordinates the DHAC's site-specific evaluation activities to identify the short-term and long-term benefit of site-specific public health assessment, community health education, and community involvement activities; (7) develops and refines performance measures for reporting DHAC's products and intervention activities for Congressional Justification Reports and to meet OMB Performance Assessment and Rating Tool reporting requirements; (8) directs and coordinates the extraction of information from the division's products and entry of this information into ATSDR's HAZDAT; (9) conducts database queries to analyze and identify trends in site-related public health issues; and (10) develops programmatic goals and objectives and contributes to policy formation and guidance in program planning and development.

The Chief Operating Officer, CDC, has been delegated the authority to sign general Federal Register notices for both the CDC and ATSDR.

Dated: September 25, 2006.
William H. Gimson,
Chief Operating Officer, Centers for Disease Control and Prevention (CDC).

[FR Doc. 06-8416 Filed 10-2-06; 8:45 am]

BILLING CODE 4160-70-M